DEPARTMENT OF ENERGY

Federal Energy Regulatory Commission

Combined Notice of Filings #1

Take notice that the Commission received the following electric rate filings:

Docket Numbers: ER11-2664-002.

Applicants: Powerex Corp.

Description: Powerex Corp. submits Informational Update to the 04/13/2012 Notice of Change in Status Filing.

Filed Date: 12/11/12.

Accession Number: 20121211-5197.

Comments Due: 5 p.m. ET 1/2/13.

Docket Numbers: ER11-2664-005.

Applicants: Powerex Corp.

Description: Powerex Corp submits notice of change in status.

Filed Date: 12/11/12.

Accession Number: 20121211-5196.

Comments Due: 5 p.m. ET 1/2/13.

Docket Numbers: ER13-530-001.

Applicants: Arizona Public Service Company.

Description: Ajo Improvement Company Interconnection Agreement, Service Agreement No. 326 to be effective 12/28/2012.

Filed Date: 12/12/12.

Accession Number: 20121212-5099.

Comments Due: 5 p.m. ET 1/2/13.

Docket Numbers: ER13-548-000.

Applicants: KGen Hinds LLC.

Description: Notice of Cancellation of Market-Based Rate Tariff to be effective 12/13/2012.

Filed Date: 12/12/12.

Accession Number: 20121212-5062.

Comments Due: 5 p.m. ET 1/2/13.

Docket Numbers: ER13-549-000.

Applicants: KGen Hot Spring LLC.

Description: Notice of Cancellation of Market-Based Rate Tariff to be effective 12/13/2012.

Filed Date: 12/12/12.

Accession Number: 20121212-5063.

Comments Due: 5 p.m. ET 1/2/13.

Docket Numbers: ER13-550-000.

Applicants: California Independent System Operator Corporation.

Description: 2012-12-12 Flexible Capacity and Local Reliability Resource Retention Amendment to be effective 4/1/2013.

Filed Date: 12/12/12.

Accession Number: 20121212-5123.

Comments Due: 5 p.m. ET 1/2/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2012.
Nathaniel J. Davis, Sr.,
Deputy Secretary.

[FR Doc. 2012-30917 Filed 12-21-12; 8:45 am]

BILLING CODE 6717-01-P